DEPARTMENT OF LABOR

Employment and Training Administration

[TA-W-63,086]

Palm Beach Precision Molding Company, Including Workers Whose Wages Were Paid by Ultimate Staffing Service, d/b/a K-Industries, USA, LLC, Riviera Beach, FL; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on April 9, 2008, applicable to workers of K-Industries, USA, LLC, Riviera Beach, Florida. The notice was published in the Federal Register on April 23, 2008 (73 FR 21991). The certification was amended on May 15, 2008 to include workers whose wages were reported under the Unemployment Insurance (UI) tax account for Ultimate Staffing Service. The notice was published in the Federal Register on May 21, 2008 (73 FR 29537)

At the request of a State agency, the Department reviewed the certification for workers of the subject firm. The workers are engaged in the production of injection-molded plastic parts.

New information provided by the State and the company shows that the correct name of the subject firm should read Palm Beach Precision Molding Company, d/b/a K-Industries, USA, LLC, including workers whose wages were paid by Ultimate Staffing Service, Riviera Beach, Florida.

Accordingly, the Department is amending the certification to properly reflect this matter.

The intent of the Department's certification is to include all workers of Palm Beach Precision Molding Company, d/b/a K-Industries, USA, LLC who were adversely affected by a shift in production to the Dominican Republic.

The amended notice applicable to TA-W-63,086 is hereby issued as follows:

All workers of Palm Beach Precision Molding Company, d/b/a K-Industries, USA, LLC, including workers whose wages were paid by Ultimate Staffing Service, Riviera Beach, Florida, who became totally or partially separated from employment on or after March 27, 2007, through April 9, 2010, are eligible to apply for adjustment assistance under Section 223 of the Trade Act of 1974, and are also eligible to apply for alternative trade adjustment assistance under Section 246 of the Trade Act of 1974.

Signed at Washington, DC, this 30th day of September 2008.
Richard Church,
Certifying Officer, Division of Trade Adjustment Assistance.

[FR Doc. E8-23851 Filed 10-7-08; 8:45 am]

BILLING CODE 4510-FN-P